POSTAL REGULATORY COMMISSION

[Docket No. MC2025-19; Order No. 7662]

Mail Classification Schedule

AGENCY: Postal Regulatory Commission.

ACTION: Notice.

SUMMARY: The Commission is recognizing a recently filed Postal Service request to convert the experimental product offering USPS Connect Local Mail into a permanent product offering on the Mail Classification Schedule. This notice informs the public of the filing, invites public comment, and takes other administrative steps.

DATES: Comments are due: November 12, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Commission Action

III. Ordering Paragraphs

I. Introduction and Overview

On October 3, 2024, the Postal Service filed a request with the Commission pursuant to 39 U.S.C. 3642 and 39 CFR 3045.18 to convert the experimental product offering USPS Connect Local Mail into a permanent product offering on the Mail Classification Schedule.¹ In support of its Request, the Postal Service filed the following documents:

¹ United States Postal Service Request to Convert USPS Connect Local Mail to a Permanent Offering, October 3, 2024 (Request). The Postal Service has previously filed two other requests to convert this experimental product into a permanent offering, both of which were denied. See Docket No. MC2023-12, Order Dismissing Without Prejudice Postal Service's Request to Convert USPS Connect Local Mail Market Test to a Permanent Offering, October 17, 2022, at 5-6 (Order No. 6301); Docket No. MC2023-12, Order Dismissing Without Prejudice the Postal Service's Revised Request to Convert USPS Connect Local Mail Market Test to a Permanent Offering, January 20, 2023 (Order No. 6423).

• Attachment A to Request—Proposed Changes to the Mail Classification Schedule;

• Attachment B to Request—Market Test Quarterly Data Collection Reports;

• Attachment C to Request—Resolution of the Governors of the United States Postal Service; and

• Attachment D to Request—Statement of Supporting Justification

See Request, Attachments A through D.

The USPS Connect Local Mail market test was initially authorized by the Commission on January 4, 2022.² It was then extended through January 9, 2025.³ Order No. 6080 at 20. USPS Connect Local Mail is a derivative of First-Class Mail that functions as an alternative to long-distance, end-to-end mailing for use by business mailers who wish to send mail locally with regular frequency. Id. at 2. The Postal Service asserts that the USPS Connect Local Mail market test has proven successful and that it now wishes to insert the USPS Connect Local Mail product offering into the Mail Classification Schedule under section 1115 (Market Dominant Products: First-Class Mail: First-Class Mail Flats). Request at 5. The Postal Service maintains that the USPS Connect Local Mail product meets all the conditions in 39 U.S.C. 3642 and 39 CFR 3045.18 for adding a non-experimental product based on an experimental product to the product list. Id. at 6-8. The Postal Service also, as required by 39 CFR 3045.18(e), filed a separate notice of the instant request in Docket No. MT2022-1.⁴ The planned rate for USPS Connect Local Mail is $2.95. See Request at 10.

² Docket No. MT2022-1, Order Authorizing Market Test of Experimental Product—USPS Connect Local Mail, January 4, 2022 (Order No. 6080).

³ Docket No. MT2022-1, Order Authorizing Extension of USPS Connect Local Mail Market Test, December 13, 2023 (Order No. 6860).

⁴ Docket No. MT2022-1, United States Postal Service Notice of Request to Convert USPS Connect Local Mail to Permanent Offering, October 3, 2024.

II. Commission Action

The Commission establishes Docket No. MC2025-19 to consider the Postal Service's Request. Interested persons may submit comments on whether the Request is consistent with the policies of 39 U.S.C. 3642, 39 CFR 3045.18, and 39 CFR 3040.130 through .135. Comments are due by November 12, 2024.

The Request and related filings are available on the Commission's website (http://www.prc.gov). The Commission encourages interested persons to review the Request for further details.

The Commission appoints Joanne Diez to serve as Public Representative in this proceeding.

III. Ordering Paragraphs

It is ordered:

1. The Commission establishes Docket No. MC2025-19 for consideration of the United States Postal Service Request to Convert USPS Connect Local Mail to a Permanent Offering, filed October 3, 2024.

2. Pursuant to 39 U.S.C. 505, Joanne Diez is appointed to serve as an officer of the Commission (Public Representative) to represent the interests of the general public in this proceeding.

3. Comments by interested persons are due by November 12, 2024.

4. The Secretary shall arrange for publication of this order in the Federal Register.

By the Commission.
Erica A. Barker,
Secretary.

[FR Doc. 2024-23585 Filed 10-10-24; 8:45 am]

BILLING CODE 7710-FW-P